DEPARTMENT OF COMMERCE

International Trade Administration

[A-533-810]

Stainless Steel Bar From India: Final Results of Administrative Review of the Antidumping Duty Order; 2017-2018.

AGENCY: Enforcement and Compliance, International Trade Administration, Department of Commerce.

SUMMARY: The Department of Commerce (Commerce) has determined that certain producers/exporters of stainless steel bar (SS Bar) from India made sales of subject merchandise at less than normal value (NV) during the period of review (POR) February 1, 2017 through January 31, 2018.

DATES: Applicable October 21, 2019.

FOR FURTHER INFORMATION CONTACT: Hermes Pinilla, AD/CVD Operations, Office I, Enforcement and Compliance, International Trade Administration, U.S. Department of Commerce, 1401 Constitution Avenue NW, Washington, DC 20230; telephone (202) 482-3477.

SUPPLEMENTARY INFORMATION:

Background

On April 16, 2019, Commerce published the preliminary results of this administrative review.¹ This review covers four producers/exporters of the subject merchandise, Venus Wire Industries Pvt. Ltd. and its affiliates Precision Metals, Sieves Manufacturers (India) Pvt. Ltd., and Hindustan Inox Ltd. (collectively, the Venus Group), Jindal Stainless Hisar Ltd. (JSHL), Jindal Stainless Limited, and Laxcon Steels Limited (Laxcon). We invited parties to comment on the Preliminary Results.

¹ See Stainless Steel Bar from India: Preliminary Results of Antidumping Duty Administrative Review; 2017-2018, 84 FR 15582 (April 16, 2019) (Preliminary Results).

On May 31, 2019, we received case briefs from the Venus Group, JSHL and Laxcon.² On June 14, 2019, we received rebuttal briefs from the petitioners,³ and from Laxcon.⁴ On July 15, 2019, Commerce held a public hearing at the request of JSHL and the Venus Group.⁵

² See Venus Group's Letter, “Antidumping Duty Investigation of Stainless Steel Bar from India: Venus Group Case Brief,” dated May 31, 2019; see also JSHL's Letter, “Stainless Steel Bar from India: Jindal Stainless (Hisar) Limited's Case Brief,” dated May 31, 2019; and “Stainless Steel Bar from India: Laxcon Case Brief,” dated May 31, 2019.

³ The petitioners are: Carpenter Technology Corporation, Crucible Industries LLC, Electralloy, a Division of G.O. Carlson, Inc., North American Stainless, Outokumpu Stainless Bar, LLC, Universal Stainless & Alloy Products, Inc., and Valbruna Slater Stainless.

⁴ See Petitioners' Letters, “Petitioners' Rebuttal Brief Concerning the Venus Group,” dated June 14, 2019; “Petitioners' Rebuttal Brief Concerning Jindal Stainless (Hisar) Limited,” dated June 14, 2019; and “Petitioners' Rebuttal Brief Concerning Laxcon Steels Limited,” dated June 14, 2019; see also Laxcon's Letter, “Stainless Steel Bar from India: Laxcon Rebuttal Brief,” dated June 14, 2019 (Laxcon's Rebuttal Brief).

⁵ See JSHL's Letter, “Stainless Steel Bar From India; Jindal Stainless (Hisar) Limited's Request for a Hearing,” dated May 15, 2019; and Venus Group's Letter, “Stainless Steel Bar from India: Request for Hearing,” dated May 16, 2019; see also Hearing Transcript, dated July 15, 2019, Bar Code 3866774-01.

Commerce conducted this administrative review in accordance with section 751(a)(1)(B) and (2) of the Tariff Act of 1930, as amended (the Act).

Scope of the Order

The merchandise subject to the order is SS bar. SS bar means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SS bar includes cold-finished SS bars that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

Imports of these products are currently classifiable under subheadings 7222.10.00, 7222.11.00, 7222.19.00, 7222.20.00, 7222.30.00 of the Harmonized Tariff Schedule (HTS). Although the HTS subheadings are provided for convenience and customs purposes, our written description of the scope of the order is dispositive.

Analysis of Comments Received

The issues raised by interested parties in their case and rebuttal briefs have been addressed in the Issues and Decision Memorandum. The Issues and Decision Memorandum is a public document and is made available to the public via Enforcement and Compliance's Antidumping and Countervailing Duty Centralized Electronic Service System (ACCESS). ACCESS is available to registered users at http://access.trade.gov and is available to all parties in the Central Records Unit, Room B8024 of the main Commerce building. In addition, a complete version of the Issues and Decision Memorandum can be accessed directly on the Enforcement and Compliance website at http://enforcement.trade.gov/frn/. The signed Issues and Decision Memorandum and the electronic version of the Issues and Decision Memorandum are identical in content. A list of the topics discussed in the Issues and Decision Memorandum is attached as an Appendix to this notice.

Changes Since the Preliminary Results

Based on our analysis of the comments received, we made certain changes to the margin calculations with regard to the Venus Group. These changes affect the margins assigned to the mandatory respondent and to the non-selected respondent. For a discussion of these changes, see the Issues and Decision Memorandum.⁶

⁶ See Memorandum, “Issues and Decision Memorandum for the Final Results of the Administrative Review of the Antidumping Duty Stainless Steel Bar from India,” dated concurrently with this notice; see also Memorandum, “Administrative Review of the Antidumping Duty Order on Stainless Steel Bar from India: Final Analysis Memorandum for the Venus Group,” dated concurrently with this notice.

Final Results of Review

Commerce determines that the following weighted-average dumping margins exist for the period February 1, 2017 through January 31, 2018:

Producer/exporter | Weighted- average dumping margin (percent)
The Venus Group | 5.35
Jindal Stainless (Hisar) Limited | 52.84
Laxcon Steels Limited | 5.35

Disclosure

With respect to the Venus Group, we intend to disclose the calculations performed for these final results to the parties within five days after public announcement of the final results in accordance with 19 CFR 351.224(b). Because we determined an antidumping duty margin for Jindal in these final results based on the application of adverse facts available, in accordance with section 776 of the Act, there are no calculations to disclose.

Assessment Rates

Upon issuance of the final results in this administrative review, Commerce shall determine, and U.S. Customs and Border Protection (CBP) shall assess, antidumping duties on all appropriate entries covered by this POR. If the preliminary results are unchanged for the final results, we will instruct CBP to apply the ad valorem assessment rates listed above to all entries of subject merchandise during the POR which were exported by the companies named above.

For entries of subject merchandise during the POR produced by the Venus Group for which it did not know its merchandise was destined for the United States, we will instruct CBP to liquidate unreviewed entries at the all-others rate if there is no rate for the intermediate company(ies) involved in the transaction.

Consistent with Commerce practice, for Jindal Stainless Limited, which had no reviewable entries of subject merchandise to the United States, we will instruct CBP to liquidate any applicable entries of subject merchandise at the all-others rate.⁷

⁷ For a full discussion, see Antidumping and Countervailing Duty Proceedings: Assessment of Antidumping Duties, 68 FR 23954 (May 6, 2003) (May 2003 Clarification).

We intend to issue liquidation instructions to CBP 15 days after publication of the final results of this review.

Cash Deposit Requirements

The following deposit requirements will be effective upon publication of the notice of final results of this review for all shipments of SS Bar from India entered, or withdrawn from warehouse, for consumption on or after the date of publication as provided by section 751(a)(2) of the Act: (1) The cash deposit rate for companies subject to this review will be the rates established in the final results of the review; (2) for merchandise exported by producers or exporters not covered in this review but covered in a prior segment of the proceeding, the cash deposit rate will continue to be the company-specific rate published for the most recent period; (3) if the exporter is not a firm covered in this review, a prior review, or the original investigation, but the producer is, then the cash deposit rate will be the rate established for the most recent period for the producer of the merchandise; (4) the cash deposit rate for all other producers or exporters will continue to be 12.45 percent, the all-others rate established in the less-than-fair-value investigation.⁸ These cash deposit requirements, when imposed, shall remain in effect until further notice.

⁸ See Notice of Final Determination of Sales at Less Than Fair Value: Stainless Steel Bar from India, 59 FR 66915, 66921 (December 28, 1994).

Notification to Importers

This notice serves as a final reminder to importers of their responsibility under 19 CFR 351.402(f)(2) to file a certificate regarding the reimbursement of antidumping and/or countervailing duties prior to liquidation of the relevant entries during this review period. Failure to comply with this requirement could result in the Secretary's presumption that reimbursement of the antidumping and/or countervailing duties occurred and the subsequent assessment of double antidumping duties.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(a)(1) and 777(i) of the Act.

Dated: October 15, 2019.
Jeffrey I. Kessler,
Assistant Secretary for Enforcement and Compliance.

Appendix

List of Topics Discussed in the Issues and Decision Memorandum

I. Summary

II. Background

III. Scope of the Order

IV. Changes Since the Preliminary Results

V. Use of AFA

VI. Discussion of the Issues

VII. Recommendation

[FR Doc. 2019-22867 Filed 10-18-19; 8:45 am]

BILLING CODE 3510-DS-P